DEPARTMENT OF AGRICULTURE

Forest Service

Information Collection; Forest Product Removal Permits and Contracts

AGENCY: Forest Service, USDA.

ACTION: Notice; request for comment.

SUMMARY: In accordance with the Paperwork Reduction Act of 1995, the Forest Service is seeking comments from all interested individuals and organizations on the extension of an information collection associated with forest product removal permits and contracts. This information collection will help the Forest Service administer the small forest products program. Information will be collected from permit applicants for free use of forest products as well as for contractors for competitive and noncompetitive purchase of forest products.

The collected information is necessary to ensure that applicants who request free use of forest products qualify for the free-use program; that applicants who purchase noncompetitive contracts to harvest forest products do not exceed the authorized limit of products that may be removed in a given fiscal year; and that permittees and contractors can be readily identified in the field by Forest Service compliance personnel.

DATES: Comments must be received in writing on or before January 14, 2002. Comments received after that date will be considered to the extent practicable.

ADDRESSES: All comments should be addressed to the Director, Forest and Rangeland Management. Comments may be sent via U.S. Postal Service to the Director at Mail Stop 1105, Forest Service, USDA, PO Box 96090, Washington, DC 20090-6090.

Comments also may be submitted to the Director's attention via facsimile to (202) 205-1045 or by e-mail to fm@fs.fed.us.

The public may inspect comments received at the Forest and Rangeland Management Office, 14th & Independence, SW., 3SW, Washington, DC. Visitors are encouraged to call ahead at (202) 205-0855 to facilitate entry to the building.

FOR FURTHER INFORMATION CONTACT: Rex Baumback, Forest Management Staff, at (202) 205-0855 or Mary Ann Ball, Forest Service Information Collection Coordinator, at (703) 605-4572. Individuals who use telecommunication devices for the deaf (TDD) may call the Federal Information Relay Service (FIRS) at 1-800-877-8339 between 8 a.m. and 8 p.m., Eastern Standard Time, Monday through Friday.

SUPPLEMENTARY INFORMATION:

Description of Information Collection

Individuals and other Federal agencies planning to remove timber and other forest products, such as mushrooms or boughs, from the National Forests for commercial or personal use purposes must obtain authorization from the Forest Service. To obtain a permit or contract, applicants must meet the criteria at 36 CFR 223.1, 223.2, and 223.5 through 223.13 for free use or purchase of timber or other forest products. The terms of the permit or contract designate the specific forest products that can be harvested or removed and under what conditions, such as limiting the harvest of forest products to a designated area or permitting harvest of only material specifically marked for removal.

When applying for forest products removal permits or contracts, applicants, depending on what timber or forest products they intend to remove, must answer questions on one of the following documents:

Contract 2400-4, Forest Products Sale Contract and Cash Receipt, is used to sell timber products, such as sawtimber, or other forest products, such as fuelwood; and

Permit 2400-8, Forest Products Free Use Permit, is used to allow free use of timber or other forest products (36 CFR 223.5 through 223.13).

Permit 2400-1, Forest Products Removal Permit and Cash Receipt, previously included in this information collection, is being combined with the Department of Interior, Bureau of Land Management; permit BLM-5510-1, Free Use Application and Permit. These information collection requirements will be described in a separate joint notice.

Each format implements different regulations and has different provisions for compliance, but both Contract 2400-4 and Contract 2400-8, collect similar information from the applicant for related purposes. OMB authorization for both information collections expire January 31, 2002. The Forest Service is requesting an extension of this information collection.

The Forest Service will use the information collected to ensure that permittees obtaining free use of timber or other forest products qualify for the free-use program and do not receive product value in excess of the $20 amount that District Rangers or $100 amount that Forest Supervisors are authorized to approve in a fiscal year (36 CFR 223.8); to ensure that applicants purchasing non-competitive contracts to harvest timber or other forest products do not exceed the authorized $10,000 limit in a fiscal year (16 U.S.C. 472(a)); and to ensure that permittees and contractors can be identified in the field by Forest Service compliance personnel.

An applicant is not restricted to one permit or contract. An applicant may apply for as many product removal permits or contracts as they deem necessary to meet their needs. For example, an applicant may obtain free use of a timber product, such as pinecones, using Permit 2400-8, Forest Products Free Use Permit, and still purchase firewood using Contract 2400-4, Forest Products Sale Contract and Cash Receipt.

Title: Forest Products Removal Permits and Contracts.

OMB Number: 0596-0085.

Expiration Date of Approval: January 31, 2002.

Type of Request: Extend this information collection.

Abstract: Individuals and persons representing small businesses usually request permits or contracts in person at the Forest Service issuing office. Forest Service personnel ask applicants to respond to questions that include their name, address, and identification number. The identification number can be a tax identification number, social security number, driver's license number, or other unique number identifying the applicant. Forest Service personnel enter the information into a computerized database for easy retrieval for subsequent requests for permits or contracts by the same individual. The database generates a printed hardcopy of a permit or contract, which the applicant signs and dates. Forest Service personnel issuing the permit or contract discuss the terms and conditions with the applicant. Permittees and contractors may be required to maintain a product removal record on the face of the permit or contract.

Data gathered in this information collection are not available from other sources.

The agency uses the collected data to ensure that applicants for free use meet the criteria for free use of timber or forest products authorized by regulations at 36 CFR 223.5 through 223.13, that applicants seeking to purchase and remove timber or forest products from National Forest System lands meet the criteria under which sale of timber or forest products is authorized by the regulations at 36 CFR 223.80, and to ensure that permittees and contractors comply with regulations and terms at 36 CFR 261.6.

Estimate of Annual Burden:

Permit 2400-8: 4.5 minutes.

Contract 2400-4: 5.5 minutes.

Type of Respondents:

Permit 2400-8: Individuals.

Contract 2400-4: Individuals and small businesses.

Estimated Annual Number of Respondents:

Permit 2400-8: 4,000.

Contract 2400-4: 500.

Estimated Annual Number of Responses per Respondent:

Permit 2400-8: 4.

Contract 2400-4: 5.

Estimated Total Annual Burden on Respondents:

Permit 2400-8: 1,140 hours.

Contract 2400-4: 225 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval.

Dated: October 30, 2001.
Abigail Kimbell,
Acting Associate Deputy Chief, National Forest System.

[FR Doc. 01-28598 Filed 11-14-01; 8:45 am]

BILLING CODE 3410-11-P